DEPARTMENT OF LABOR

Employment and Training Administration

[TA-W-41,453]

Fun Tees, Inc., Distribution Center, Concord, NC; Notice of Negative Determination Regarding Application for Reconsideration

By application received on August 20, 2002, a petitioning worker requested administrative reconsideration of the Department's negative determination regarding eligibility for workers and former workers of the subject firm to apply for Trade Adjustment Assistance (TAA). The denial notice applicable to workers of Fun Tees, Inc., Distribution Center, Concord, North Carolina was signed on July 31, 2002, and published in the Federal Register on August 9, 2002 (67 FR 51870).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

Workers at the subject facility were engaged in the shipping and distribution of tee shirts. The petition was denied because the petitioning workers did not produce an article within the meaning of section 222(3) of the Act.

The petitioner requesting reconsideration stated that she produced neck labels and hang tags at the subject facility and that this production was shipped abroad during the relevant period. Further contact with the company confirmed that the petitioner did produce neck labels and hang tags at the Concord facility and that this production did shift overseas within the relevant period. The worker did not affix labels or tags to the tee shirts.

Communication with the company revealed that the petitioning worker's layoff was the direct result of a shift in subject plant production of neck labels and hang tags to offshore facilities. However, the neck labels and hang tags are not imported back to the United States, but affixed to tee shirts as a finished product. The tee shirts are then imported back to the United States. Increased imports of finished articles cannot be used as the basis for certification of workers producing a component for the finished article. Imports of tee shirts and not neck labels and hang tags must be considered to meet criterion (3) of the worker group's eligibility requirements of section 222 of the Trade Act.

Conclusion

After review of the application and investigative findings, I conclude that there has been no error or misinterpretation of the law or of the facts which would justify reconsideration of the Department of Labor's prior decision. Accordingly, the application is denied.

Signed at Washington, DC, this 3rd day of February 2003.
Edward A. Tomchick
Director, Division of Trade Adjustment Assistance.

[FR Doc. 03-4279 Filed 2-21-03; 8:45 am]

BILLING CODE 4510-30-P